SECURITIES AND EXCHANGE COMMISSION

[Release No. 34-88189; SR-CboeBZX-2019-068]

Self-Regulatory Organizations; Cboe BZX Exchange, Inc.; Notice of Withdrawal of a Proposed Rule Change, as Modified by Amendment No. 1, To List and Trade Shares of the iShares California Short Maturity Muni Bond ETF Under Rule 14.11(i)

February 13, 2020.

On July 19, 2019, Cboe BZX Exchange, Inc. (“BZX” or “Exchange”) filed with the Securities and Exchange Commission (“Commission”), pursuant to Section 19(b)(1) of the Securities Exchange Act of 1934 (“Act”) ¹ and Rule 19b-4 thereunder,² a proposed rule change to allow the listing and trading of shares of the iShares California Short Maturity Muni Bond ETF under BZX Rule 14.11(i). The proposed rule change was published for comment in the Federal Register on August 7, 2019.³ On September 19, 2019, pursuant to Section 19(b)(2) of the Act,⁴ the Commission extended the time period within which to approve the proposed rule change, disapprove the proposed rule change, or institute proceedings to determine whether to approve or disapprove the proposed rule change.⁵ On October 1, 2019, the Exchange filed Amendment No. 1 to the proposed rule change, which replaced in its entirety the proposed rule change as originally submitted.⁶ On October 30, 2019, the Commission instituted proceedings pursuant to Section 19(b)(2)(B) of the Act ⁷ to determine whether to approve or disapprove the proposed rule change as modified by Amendment No. 1.⁸ On January 30, 2020, pursuant to Section 19(b)(2) of the Act, the Commission extended the time period within which to approve or disapprove the proposed rule change as modified by Amendment No. 1.⁹ The Commission has received no comment letters on the proposal.

¹ 15 U.S.C. 78s(b)(1).

² 17 CFR 240.19b-4.

³ See Securities Exchange Act Release No. 86546 (August 1, 2019), 84 FR 38689.

⁴ 15 U.S.C. 78s(b)(2).

⁵ See Securities Exchange Act Release No. 87018, 84 FR 50501 (September 25, 2019).

⁶ Amendment No. 1 is available at: https://www.sec.gov/comments/sr-cboebzx-2019-068/srcboebzx2019068-6362715-196411.pdf.

⁷ 15 U.S.C. 78s(b)(2)(B).

⁸ See Securities Exchange Act Release No. 87421, 84 FR 59669 (November 5, 2019).

⁹ See Securities Exchange Act Release No. 88089, 85 FR 6587 (February 5, 2019). The Commission designated April 3, 2020 as the date by which it would either approve or disapprove the proposed rule change.

On February 12, 2020, the Exchange withdrew the proposed rule change (SR-CboeBZX-2019-068), as modified by Amendment No. 1.

For the Commission, by the Division of Trading and Markets, pursuant to delegated authority.¹⁰
¹⁰ 17 CFR 200.30-3(a)(12).
Jill M. Peterson,
Assistant Secretary.

[FR Doc. 2020-03316 Filed 2-19-20; 8:45 am]

BILLING CODE 8011-01-P